DEPARTMENT OF TRANSPORTATION

Pipeline and Hazardous Materials Safety Administration

[Docket No. PHMSA-2013-0004]

Pipeline Safety: Information Collection Activities, Revision to Gas Distribution Annual Report

AGENCY: Pipeline and Hazardous Materials Safety Administration, DOT.

ACTION: Notice and request for comments.

SUMMARY: On April 28, 2014, in accordance with the Paperwork Reduction Act of 1995, the Pipeline and Hazardous Materials Safety Administration (PHMSA) published a notice in the Federal Register (79 FR 23403) of its intent to revise the gas distribution annual report (PHMSA F7100.1-1) to improve the granularity of the data collected. In addition to making several minor changes to the report, PHMSA will also request a new Office of Management and Budget (OMB) control number for this information collection.

PHMSA received comments from one commenter in response to that notice. PHMSA is publishing this notice to respond to the comments, provide the public with an additional 30 days to comment on the proposed revisions to the forms and the instructions and announce that the revised information collection will be submitted to the OMB for approval.

DATES: Comments on this notice must be received by September 15, 2014 to be assured of consideration.

FOR FURTHER INFORMATION CONTACT: Blaine Keener by telephone at 202-366-0970, by fax at 202-366-4566, by email at blaine.keener@dot.gov.

ADDRESSES: You may submit comments identified by the docket number PHMSA-2013-0004 by any of the following methods:

• Fax: 1-202-395-5806.

• Mail: Office of Information and Regulatory Affairs (OIRA), Records Management Center, Room 10102 NEOB, 725 17th Street NW., Washington, DC 20503, ATTN: Desk Officer for the U.S. Department of Transportation\PHMSA.

• Email: Office of Information and Regulatory Affairs, OMB, at the following email address: OIRA_Submission@omb.eop.gov.

Requests for a copy of the information collection should be directed to Angela Dow by telephone at 202-366-1246, by fax at 202-366-4566, by email at Angela.Dow1@dot.gov or by mail at U.S. Department of Transportation, PHMSA, 1200 New Jersey Avenue SE., PHP-30, Washington, DC 20590-0001.

SUPPLEMENTARY INFORMATION:

Section 1320.8(d), Title 5, Code of Federal Regulations requires PHMSA to provide interested members of the public and affected agencies an opportunity to comment on information collection and recordkeeping requests. This notice identifies a revised information collection request that PHMSA will submit to OMB for approval. The information collection is titled: “Annual Report for Gas Distribution Pipeline Operators” (2137-0522).

Summary of Topic Comments/Responses

During the two-month response period, PHMSA received comments on the Gas Distribution Annual Report from the American Gas Association (AGA).

This notice responds to the comments, which may be found at http://www.regulations.gov, at docket number PHMSA-2013-0004. The docket also contains the form and instructions as amended in response to the comment. The AGA comments are summarized below and followed by the PHMSA response.

Comment: Under Part C, Cause of Leak, AGA proposes a new leak cause category for operators to use in those instances when the leak is eliminated by replacement and abandonment of the leaking pipe. AGA indicates that operators prefer to indicate the cause of the leak and avoid using “other” whenever possible for the reporting of a leak cause, but it is difficult to determine the cause of a leak when a pipeline is replaced in its entirety rather than making a repair.

Response: PHMSA's instructions for the “Other Cause” category encourage operators to use one of the specific categories whenever possible. A “Repair by Replacement” category would provide no insight into the cause of the leak. A single, non-specific category of “Other Cause” is sufficient to capture the number of leaks for which the operator cannot determine or assign the cause.

Comment: Under Part D, Excavation Damage, AGA recommends an additional root cause, “Failure to Call.” AGA believes that this is different from “One-Call Notification Practices Not Sufficient” in that this item covers insufficiencies of action between the call center and the excavator. AGA believes it is critical to capture “Failure to Call” as a separate excavation damage metric in order to attain future enhancements to one-call laws. AGA also notes numbering errors in Part D.

Response: PHMSA believes that the proposed information on the apparent root cause of excavation damages is adequate. The four apparent root cause categories are those established by the international Common Ground Alliance (CGA) in their Damage Information and Reporting Tool (DIRT). In DIRT, and in the PHMSA incident and accident reports, “Failure to Call” is one of three subcategories under “One-Call Notification Practices Not Sufficient.” For incidents, the additional level of detail is appropriate since there are fewer reports. PHMSA intentionally chose to limit the reporting burden for damages on the annual report by collecting the apparent root cause at a “higher” level. It appears that AGA was reviewing a 2013 edition of the report when they noted errors in the Part D numbering. The 2014 edition of the report in the docket has no numbering errors in Part D.

Comment: AGA recommended that Part H, Additional Information, which allows operators to provide text explaining information submitted elsewhere in the annual report, be retained.

Response: It appears that AGA was reviewing a 2013 edition of the report when they noted the proposal to eliminate Part H. The 2014 edition of the report in the docket does not propose the elimination of Part H.

Comment: AGA expressed concern about portions of the proposed definition for “Reconditioned Cast Iron.” AGA also noted an error in the instructions regarding where to describe “other” pipe materials.

Response: PHMSA concurs with these comments. We revised the definition of “Reconditioned Cast Iron” in line with AGA's comments. We clarified where operators should enter the description of “other” pipe materials.

Comment: Under Part C, Total Leaks And Hazardous Leaks Eliminated/Repaired During The Year, AGA commented that the leak cause category “Pipe, Weld Or Joint Failure” may exclude certain items, such as leaks on fittings. In addition, AGA commented that the new definition seems to only cover installation errors due to force applied during construction.

Response: PHMSA proposes changing the “Material or Weld” category name to “Pipe, Weld Or Joint Failure” to match the name used in the gas distribution incident report. PHMSA concurs with AGA's comments about fittings and installation errors. PHMSA has revised the instructions for the leak cause category “Pipe, Weld Or Joint Failure” accordingly.

Comment: Under Part D, Excavation Damage, AGA recommends that PHMSA should include damage to tracer wire in the description of excavation damage. AGA notes that some operators are currently reporting tracer wire damage to DIRT as excavation damage, but the annual report instructions do not specify that tracer wire damages should be reported as excavation damage.

Response: PHMSA concurs with the recommendation and has revised the instructions to include damage to tracer wire as excavation damage.

Proposed Information Collection Revisions and Request for Comments

The following information is provided for each revised information collection: (1) Title of the information collection; (2) OMB control number; (3) Type of request; (4) Abstract of the information collection activity; (5) Description of affected public; (6) Estimate of total annual reporting and recordkeeping burden; and (7) Frequency of collection. PHMSA will request a three-year term of approval for this information collection activity.

Title: Incident and Annual Reports for Gas Pipeline Operators.

OMB Control Number: N/A.

Current Expiration Date: N/A.

Type of Request: Revision.

Abstract: PHMSA is looking to revise the Gas Distribution Annual Report (PHMSA F 7100.1-1) to make several minor changes related to data collection.

Affected Public: Gas distribution pipeline operators.

Annual Reporting and Recordkeeping Burden:

Total Annual Responses: 1,440.

Total Annual Burden Hours: 23,040.

Frequency of Collection: Annually.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC on August 6, 2014.
Jeffrey D. Wiese,
Associate Administrator for Pipeline Safety.

[FR Doc. 2014-19186 Filed 8-13-14; 8:45 am]

BILLING CODE 4910-60-P